DEPARTMENT OF COMMERCE

International Trade Administration

[A-583-853]

Certain Crystalline Silicon Photovoltaic Products From Taiwan: Final Results of Antidumping Duty Administrative Review and Final Determination of No Shipments; 2017-2018

AGENCY: Enforcement and Compliance, International Trade Administration, Department of Commerce.

SUMMARY: The Department of Commerce (Commerce) determines that producers and/or exporters subject to this administrative review made sales of subject merchandise at less than normal value (NV) during the period of review (POR), February 1, 2017, through January 31, 2018.

DATES: Applicable August 12, 2019.

FOR FURTHER INFORMATION CONTACT: Thomas Martin or Maisha Cryor, AD/CVD Operations, Office IV, Enforcement and Compliance, International Trade Administration, Department of Commerce, 1401 Constitution Avenue NW, Washington, DC 20230; (202) 482-3936 or (202) 482-5831, respectively.

SUPPLEMENTARY INFORMATION:

Background

Commerce published the preliminary results of this administrative review on April 15, 2019.¹ This review covers 31 producers/exporters of subject merchandise, including two mandatory respondents, Motech Industries Inc., and Sino-American Silicon Products Inc., Solartech Energy Corp. and Sunshine PV Corporation (SAS-SEC). We invited interested parties to comment on the Preliminary Results. On May 15, 2019, Commerce received a case brief from SAS-SEC.² No party filed a rebuttal brief.

¹ See Certain Crystalline Silicon Photovoltaic Products from Taiwan: Preliminary Results of Antidumping Duty Administrative Review and Preliminary Determination of No Shipments; 2017-2018, 84 FR 15179 (April 15, 2019) (Preliminary Results).

² See “Certain Crystalline Silicon Photovoltaic Products from Taiwan: Case Brief,” dated May 15, 2019.

Commerce conducted this administrative review in accordance with section 751(a) of the Tariff Act of 1930, as amended (the Act).

Scope of the Order

The merchandise covered by this order is crystalline silicon photovoltaic cells, and modules, laminates and/or panels consisting of crystalline silicon photovoltaic cells, whether or not partially or fully assembled into other products, including building integrated materials.³ Merchandise covered by this order is currently classified in the Harmonized Tariff Schedule of the United States (HTSUS) under subheadings 8501.61.0000, 8507.20.8030, 8507.20.8040, 8507.20.8060, 8507.20.8090, 8541.40.6015, 8541.40.6020, 8541.40.6025, 8541.40.6030, 8541.40.6035, and 8501.31.8000.⁴ These HTSUS subheadings are provided for convenience and customs purposes; the written description of the scope is dispositive.

³ For a complete description of the scope of the products under review, See Memorandum, “Antidumping Duty Administrative Review of Certain Crystalline Silicon Photovoltaic Products from Taiwan: Issues and Decision Memorandum for the Final Results; 2017-2018” (Issues and Decision Memorandum), dated concurrently with and herby adopted by this notice.

⁴ On August 7, 2018, Commerce added the following HTSUS numbers to the ACE Case Reference File to reflect 2018 HTSUS updates at the request of U.S. Customs and Border Protection (CBP): 8541.40.6015, 8541.40.6035. On November 7, 2018, Commerce added the following HTSUS numbers to the ACE Case Reference File to reflect 2018 HTSUS updates at the request of CBP: 8541.40.6025.

Analysis of Comments Received

All issues raised in the sole case brief filed in this administrative review are addressed in the Issues and Decision Memorandum. A list of the topics discussed in the Issues and Decision Memorandum is appended to this notice. The Issues and Decision Memorandum is a public document and is available electronically via Enforcement and Compliance's Antidumping and Countervailing Duty Centralized Electronic Services System (ACCESS). ACCESS is available to registered users at http://access.trade.gov, and it is available to all parties in the Central Records Unit of the main Commerce Building, Room B-8024. In addition, a complete version of the Issues and Decision Memorandum is also accessible on the internet at http://enforcement.trade.gov/frn/index.html. The signed Issues and Decision Memorandum and the electronic versions of the Issues and Decision Memorandum are identical in content.

Final Determination of No Shipments

In the Preliminary Results, Commerce preliminarily determined that thirteen companies had no shipments during the POR.⁵ Following publication of the Preliminary Results, we received no comments from interested parties regarding these companies. As a result, and because the record contains no evidence to the contrary, we continue to find that these thirteen companies made no shipments during the POR. Consistent with our practice, we will issue appropriate instructions to CBP based on our final results.

⁵ See Preliminary Results, 84 FR at 15180; see also certifications of no shipments filed by: (1) AU Optronics Corporation; and (2) Inventec Energy Corporation, dated May 7, 2018, and certifications of no shipments filed by: (3) Vina Solar Technology Co., Ltd; (4) Baoding Jiasheng Photovoltaic Technology Co., Ltd.; (5) Baoding Tianwei Yingli New Energy Resources Co., Ltd.; (6) Beijing Tianneng Yingli New Energy Resources Co., Ltd.; (7) Hainan Yingli New Energy Resources Co., Ltd.; (8) Hengshui Yingli New Energy Resources Co., Ltd.; (9) Lixian Yingli New Energy Resources Co., Ltd.; (10) Shenzhen Yingli New Energy Resources Co., Ltd.; (11) Tianjin Yingli New Energy Resources Co., Ltd.; (12) Yingli Energy (China) Co., Ltd.; and (13) Yingli Green Energy International Trading Company Limited, dated May 16, 2018.

Changes Since the Preliminary Results

Based on our review of the record and comments received from interested parties regarding our Preliminary Results, Commerce has made no changes to the Preliminary Results.

Final Results of Review

As a result of this administrative review, we are assigning the following weighted-average dumping margins to the manufacturers/exporters listed below for the period of February 1, 2017, through January 31, 2018:

⁶ In the 2014-2016 administrative review of the order, Commerce collapsed Sino-American Silicon Products Inc. and Solartech Energy Corp., and treated the companies as a single entity for purposes of the proceeding. See Certain Crystalline Silicon Photovoltaic Products from Taiwan: Final Results of Antidumping Duty Administrative Review; 2014-2016, 82 FR 31555 (July 7, 2017). Because there were no changes to the facts which supported that decision since that determination was made, we continue to find that these companies are part of a single entity for this administrative review. Additionally, we have determined to collapse Sino-American Silicon Products Inc. and Solartech Energy Corp. with Sunshine PV Corporation. See Preliminary Results, 84 FR at 15182.

Manufacturer/exporter | Weighted- average margin (percent)
Motech Industries, Inc | 7.77
Sino-American Silicon Products Inc., and Solartech Energy Corp., and Sunshine PV Corporation ⁶ | 1.00
Boviet Solar Technology Co., Ltd | 4.39
Canadian Solar Inc | 4.39
Canadian Solar International, Ltd | 4.39
Canadian Solar Manufacturing (Changshu), Inc | 4.39
Canadian Solar Manufacturing (Luoyang), Inc | 4.39
Canadian Solar Solutions Inc | 4.39
EEPV CORP | 4.39
E-TON Solar Tech. Co., Ltd | 4.39
Gintech Energy Corporation | 4.39
Inventec Solar Energy Corporation | 4.39
Kyocera Mexicana S.A. de C.V | 4.39
Lof Solar Corp | 4.39
Sunengine Corporation Ltd | 4.39
Sunrise Global Solar Energy | 4.39
TSEC Corporation | 4.39
Win Win Precision Technology Co., Ltd | 4.39

Assessment Rates

Pursuant to section 751(a)(2)(A) the Act and 19 CFR 351.212(b)(1), Commerce shall determine, and CBP shall assess, antidumping duties on all appropriate entries of subject merchandise in accordance with the final results of this review.

We intend to calculate importer- (or customer-) specific assessment rates on the basis of the ratio of the total amount of antidumping duties calculated for each importer's (or customer's) examined sales and the total entered value of the sales in accordance with 19 CFR 351.212(b)(1). Where an importer- (or customer-) specific rate is zero or de minimis within the meaning of 19 CFR 351.106(c)(1), we will instruct CBP to liquidate the appropriate entries without regard to antidumping duties.

For the companies which were not selected for individual review, we will assign an assessment rate based on the average of the cash deposit rates calculated for Motech Industries, Inc. and SAS-SEC. The final results of this review shall be the basis for the assessment of antidumping duties on entries of merchandise covered by the final results of this review and for future deposits of estimated duties, where applicable.⁷

⁷ See section 751(a)(2)(C) of the Act.

For entries of subject merchandise during the POR produced by each respondent for which it did not know its merchandise was destined for the United States, we will instruct CBP to liquidate such entries at the all-others rate if there is no rate for the intermediate company or companies involved in the transaction.

We intend to issue liquidation instructions to CBP 15 days after publication of the final results of this administrative review.

Cash Deposit Requirements

The following cash deposit requirements will be effective for all shipments of subject merchandise entered, or withdrawn from warehouse, for consumption on or after the publication date of these final results, as provided by section 751(a)(2)(C) of the Act: (1) The cash deposit rate for the companies under review will be equal to the weighted-average dumping margin listed above in the “Final Results of Review” section; (2) for merchandise exported by producers or exporters not covered in this review but covered in a previously completed segment of this proceeding, the cash deposit rate will continue to be the company-specific rate published in the final results for the most recent period in which that producer or exporter participated; (3) if the exporter is not a firm covered in this review or in any previous segment of this proceeding, but the producer is, then the cash deposit rate will be that established for the producer of the merchandise in these final results of review or in the final results for the most recent period in which that producer participated; and (4) if neither the exporter nor the producer is a firm covered in this review or in any previously completed segment of this proceeding, then the cash deposit rate will be 19.50 percent ad valorem, the all-others rate established in the less than fair value investigation.⁸ These cash deposit requirements, when imposed, shall remain in effect until further notice.

⁸ See Certain Crystalline Silicon Photovoltaic Products from Taiwan: Final Determination of Sales at Less Than Fair Value, 79 FR 76966 (December 23, 2014).

Notification to Importers

This notice serves as a final reminder to importers of their responsibility under 19 CFR 351.402(f)(2) to file a certificate regarding the reimbursement of antidumping duties prior to liquidation of the relevant entries during this POR. Failure to comply with this requirement could result in Commerce's presumption that reimbursement of antidumping duties occurred and the subsequent assessment of doubled antidumping duties.

Notification Regarding Administrative Protective Order

This notice is the only reminder to parties subject to the administrative protective order (APO) of their responsibility concerning the return or destruction of proprietary information disclosed under the APO in accordance with 19 CFR 351.305(a)(3), which continues to govern business proprietary information in this segment of the proceeding. Timely written notification of the return or destruction of APO materials, or conversion to judicial protective order, is hereby requested. Failure to comply with the regulations and the terms of an APO is a violation subject to sanction.

Notification to Interested Parties

We are issuing and publishing these final results and this notice in accordance with sections 751(a)(1) and 777(i)(1) of the Act and 19 CFR 351.213(h).

Dated: August 5, 2019.
Jeffrey I. Kessler,
Assistant Secretary for Enforcement and Compliance.

Appendix—List of Topics Discussed in the Issues and Decision Memorandum

I. Summary

II. Background

III. Scope of the Order

IV. Discussion of Comment

Comment: Rate Applicable to Sunrise Global Solar Energy

V. Recommendation

[FR Doc. 2019-17196 Filed 8-9-19; 8:45 am]

BILLING CODE 3510-DS-P